DEPARTMENT OF ENERGY

Federal Energy Regulatory Commission

Notice of Meeting To Discuss Concept of Developing an Electronic Information and Trading Platform for Natural Gas

Commissioner Philip D. Moeller will convene a meeting at the Federal Energy Regulatory Commission on Thursday, September 18, 2014, from 2:00 p.m. to 4:45 p.m., in the Commission Meeting Room at the agency's headquarters: 888 First Street NE., Washington, DC. The purpose of this meeting is to provide a forum for interested parties to discuss ideas to facilitate and improve the way in which natural gas is traded, and explore the concept of establishing a centralized trading platform for natural gas.

As natural gas-fired power plants become an increasingly larger share of the nation's electricity mix, the manner by which the commodity is procured and transacted is of great interest. This meeting will address how natural gas is currently traded and discuss concerns regarding the lack of transparency and possible inefficiencies in trading the commodity, particularly during off-hours. We welcome ideas from system operators and generation owners regarding the types of near real time flexibility (e.g., changing or confirming nominations) that would be most valuable to them in meeting contingencies that may require gas-fired generation to ramp on short notice, as well as ideas from pipeline operators and others regarding the physical and information requirements that would have to be met in order to provide such flexibility on a standardized basis.

Further, we welcome ideas and discussion of current confirmation processes and how they might be accelerated, streamlined, and better coordinated across pipelines where necessary to support trading opportunities. Notably, the meeting will explore the concept of developing an electronic information and trading platform that would contain bids and offers for the purchase and sale of both commodity and capacity for receipt and delivery points across multiple pipeline systems.

This meeting is open to the public and all interested parties, including those in the electric power and financial sectors, are invited to attend. There is no registration fee to attend and this meeting will not be Web cast or transcribed. Meeting attendees are reminded to allow sufficient time to pass through building security procedures.

Persons wishing to participate and speak at this meeting should express such interest no later than September 4, 2014 by contacting Jason Stanek, Legal Advisor to the Commissioner at (202) 502-8403, or by email at jason.stanek@ferc.gov.

Commission conferences are accessible under section 508 of the Rehabilitation Act of 1973. For accommodations, please send an email to accessibility@ferc.gov or call toll free 1-866-208-3372 (voice) or (202) 502-8659 (TTY), or send a facsimile to (202) 208-2106 noting the accommodations required.

Dated: August 19, 2014.
Kimberly D. Bose,
Secretary.

[FR Doc. 2014-20127 Filed 8-22-14; 8:45 am]

BILLING CODE 6717-01-P